NATIONAL FOUNDATION ON THE ARTS AND THE HUMANITIES

National Endowment for the Arts; Arts Advisory Panel

Pursuant to Section 10(a)(2) of the Federal Advisory Committee Act (Pub. L. 92-463), as amended, notice is hereby given that a meeting of the Arts Advisory Panel, Literature section (National Initiatives) to the National Council on the Arts will be held by teleconference from the Nancy Hanks Center, 1100 Pennsylvania Avenue, NW., Washington, DC 20506 on Monday, October 24, 2005 from 2 p.m. to 2:45 p.m. EDT (ending time is tentative). This meeting will be closed.

Closed meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Further information with reference to this meeting can be obtained from Ms. Kathy Plowitz-Worden, Office of Guidelines & Panel Operations, National Endowment for the Arts, Washington, DC, 20506, or call (202) 682-5691.

Dated: October 4, 2005.
Kathy Plowitz-Worden,
Panel Coordinator, Panel Operations, National Endowment for the Arts.

[FR Doc. 05-20193 Filed 10-6-05; 8:45 am]

BILLING CODE 7537-01-P